DEPARTMENT OF THE INTERIOR

Bureau of Indian Affairs

[192A2100DD/AAKC001030/ A0A501010.999900 253G]

Johnson-O'Malley Program

AGENCY: Bureau of Indian Affairs, Interior.

ACTION: Notice of Tribal consultation and opportunity for public comment.

SUMMARY: The Bureau of Indian Education (BIE) will conduct consultations on which source can provide the most applicable and accurate data for a preliminary report on the number of eligible Indian students served, or potentially served, by entities eligible for participation in the Johnson-O'Malley (JOM) Supplemental Indian Education Program. The sources under consideration are: The Bureau of the Census, the National Center for Education Statistics, or the Office of Indian Education of the Department of Education. The preliminary report will reflect an initial determination regarding the eligible Indian student count for the purposes of calculating formula allocations for programs under the JOM Act of 1934, as amended by the JOM Supplemental Indian Education Program Modernization Act (JOM Modernization Act). BIE is also interested in determining the interest of Tribes, State and local educational agencies, and Alaska Native organizations of entering into JOM contracts.

DATES: Comments must be received on or before July 22, 2019. See the SUPPLEMENTARY INFORMATION section for dates and locations of the consultation sessions.

ADDRESSES: Send comments to: Bureau of Indian Education, ATTN: JOM Comments, C/O Angela Barnett, Program Manager, 1011 Indian School Road NW, Suite 332, Albuquerque, NM 87104. Or email comments to: JOMcomments@bie.edu.

FOR FURTHER INFORMATION CONTACT: Angela Barnett, Program Specialist, Bureau of Indian Education; telephone (405) 605-6051 ext. 302; email ANGELA.BARNETT1@bie.edu.

SUPPLEMENTARY INFORMATION: The JOM Act of 1934 was enacted to subsidize education, medical services, and other social services provided to Indians living within the borders of states and territories. Today, JOM funding is used to support programs designed to meet the specialized and unique educational and cultural needs of eligible Indian students, including programs that supplement existing school programming operational supports.

The JOM Modernization Act, Public Law 115-404, enacted December 31, 2018, directs the Secretary of the Interior (Secretary) to conduct an accurate and comprehensive student count for the purposes of calculating formula allocations for programs under the JOM Act and for other purposes. The JOM Modernization Act also requires the Secretary to make an initial determination of the number of eligible Indian students served, or potentially served, by each eligible entity. In accordance with the JOM Modernization Act, the BIE will use the most applicable and accurate data (from the fiscal year preceding the fiscal year for which the initial determination is to be made) from one of the following sources:

1. Bureau of the Census;

2. National Center for Education Statistics; or

3. Office of Indian Education of the Department of Education.

The BIE would like feedback on which of these three sources can provide the most accurate data for use in the preliminary report. To obtain this feedback, BIE is announcing Tribal consultation sessions and the opportunity for eligible entities and interested parties to provide input. Eligible entities include existing JOM contractors and potential JOM contractors, including States, public school districts, tribal organizations, Indian corporations, and previously private schools. Interested parties include, but are not limited to, JOM Indian Education Committee members, Tribal organizations, employees of public schools serving American Indian students, urban Indian communities, Indian school boards, parents, and student organizations.

BIE is also interested in determining the interest of Tribes, State and local educational agencies, and Alaska Native organizations of entering into JOM contracts.

BIE will conduct a telephonic consultation session and will accept both oral and written comments. The first hour of the session is reserved for Tribal leaders and their representatives to provide input. The rest of the time is open to eligible parties and any other interested parties who would like to provide input, as follows:

June 21, 2019.

1 p.m.-3 p.m. MDT.

Please visit & join the meeting space from your computer, tablet, or smartphone.

https://www.gotomeet.me/valerietodacheene/jom-consultation-m-lesky.

Call-in number: (312) 757-3121.

Passcode: 843-649-541.

You can find additional information at the BIE JOM web page at: https://www.bie.edu/JOM/. The BIE strongly recommends that anyone planning to attend a consultation session first review the preliminary data located on BIE's web page, to best engage in meaningful dialogue.

At the conclusion of the consultations, BIE will publish the preliminary report and announce its availability in the Federal Register. Following publication of the preliminary report, BIE will again seek feedback for consideration in preparing the final report.

Dated: May 7, 2019.
Tara Sweeney,
Assistant Secretary—Indian Affairs.

[FR Doc. 2019-10718 Filed 5-21-19; 8:45 am]

BILLING CODE 4337-15-P